DEPARTMENT OF TRANSPORTATION

Federal Aviation Administration

[Summary Notice No. PE-2005-38]

Petitions for Exemption; Summary of Petitions Received

AGENCY: Federal Aviation Administration (FAA), DOT.

ACTION: Notice of petitions for exemption received.

SUMMARY: Pursuant to FAA's rulemaking provisions governing the application, processing, and disposition of petitions for exemption part 11 of Title 14, Code of Federal Regulations (14 CFR), this notice contains a summary of certain petitions seeking relief from specified requirements of 14 CFR. The purpose of this notice is to improve the public's awareness of, and participation in, this aspect of FAA's regulatory activities. Neither publication of this notice nor the inclusion or omission of information in the summary is intended to affect the legal status of any petition or its final disposition.

DATES: Comments on petitions received must identify the petition docket number involved and must be received on or before August 1, 2005.

ADDRESSES: You may submit comments [identified by DOT DMS Docket Number FAA-2005-20948 or FAA-2005-21077] by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal Holidays.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Susan Lender (202) 267-8029 or John Linsenmeyer (202) 267-5174, Office of Rulemaking (ARM-1), Federal Aviation Administration, 800 Independence Avenue, SW., Washington, DC 20591.

This notice is published pursuant to 14 CFR 11.85 and 11.91.

Issued in Washington, DC, on July 6, 2005.
Anthony F. Fazio,
Director, Office of Rulemaking.

Petitions for Exemption

Docket No.: FAA-2005-20948.

Petitioner: Honeywell International, Commercial Electronic Systems.

Section of 14 CFR Affected: 14 CFR 21.303(g), 21.325(b)(3), and 21.601(c).

Description of Relief Sought: Petitioner seeks an exemption permitting issuance of Technical Standard Order Authorizations, Parts Manufacturer Approvals, and Export Airworthiness Approvals from its facility in Hermosillo, Sonora, Mexico.

Docket No.: FAA-2005-21077.

Petitioner: Aviation Suppliers Association.

Section of 14 CFR Affected: 14 CFR 21.323.

Description of Relief Sought: Petitioner seeks an exemption permitting its members to apply for export airworthiness approvals for Class III aviation products.

[FR Doc. 05-13668 Filed 7-11-05; 8:45 am]

BILLING CODE 4910-13-P